DEPARTMENT OF STATE

[Public Notice: 7884]

30-Day Notice of Proposed Information Collection: DS-261, Electronic Choice of Address and Agent, OMB Control Number 1405-0186

ACTION: Notice of request for public comment and submission to OMB of proposed collection of information.

SUMMARY: The Department of State has submitted the following information collection request to the Office of Management and Budget (OMB) for approval in accordance with the Paperwork Reduction Act of 1995.

• Title of Information Collection: Electronic Choice of Address and Agent.

• OMB Control Number: 1405-0186.

• Type of Request: Extension.

• Originating Office: CA/VO/L/R.

• Form Number: DS-261.

• Respondents: Immigrant beneficiaries requesting change of address or designation of an authorized agent.

• Estimated Number of Respondents: 700,000.

• Estimated Number of Responses: 700,000.

• Average Hours per Response: 10 minutes.

• Total Estimated Burden: 116,666.

• Frequency: Once per Respondent.

• Obligation to Respond: Required to Obtain or Retain a Benefit.

DATES: Submit comments to the Office of Management and Budget (OMB) for up to 30 days from May 16, 2012.

ADDRESSES: Please direct comments to the Department of State Desk Officer in the Office of Information and Regulatory Affairs at the Office of Management and Budget (OMB). You may submit comments by the following methods:

• Email: oira_submission@omb.eop.gov. You must include the DS form number, information collection title, and OMB control number in the subject line of your message.

• Fax: 202-395-5806. Attention: Desk Officer for Department of State.

FOR FURTHER INFORMATION CONTACT: You may obtain copies of the proposed information collection and supporting documents from Sydney Taylor, Visa Services, U.S. Department of State, 2401 E Street NW., L-603, Washington, DC 20522, who may be reached at taylors2@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of Proposed Collection

The DS-261 allows the beneficiary of an approved immigrant visa petition to provide the Department with his current address, which will be used for communications with the beneficiary. The DS-261 also allows the beneficiary to appoint an agent to receive communications relevant to the beneficiary's visa application from the National Visa Center (NVC) and assist in the filing of various application forms and/or paying the required fees. The beneficiary is not required to use an agent. The NVC can contact them directly. If the beneficiary chooses to serve as their own agent and have the NVC contact them directly, they will need to provide the NVC with their current contact information. All cases will be held at NVC until the DS-261 is electronically submitted to the Department.

Methodology

Applicants will submit the DS-261 electronically to the Department via the internet. Applicants who submit the electronic form will no longer submit paper-based applications to the Department.

Dated: May 4, 2012.
David Donahue,
Deputy Assistant Secretary, Bureau of Consular Affairs, Department of State.

[FR Doc. 2012-11862 Filed 5-15-12; 8:45 am]

BILLING CODE 4710-06-P